DEPARTMENT OF ENERGY

Federal Energy Regulatory Commission

[Docket No. EC04-155-000, et al.]

Entergy-Koch, LP, et al.; Electric Rate and Corporate Filings

September 13, 2004.

The following filings have been made with the Commission. The filings are listed in ascending order within each docket classification.

1. Entergy-Koch, LP, Entergy-Koch Trading, LP

[Docket No. EC04-155-000]

Take notice that on September 10, 2004, Entergy-Koch, LP and Entergy-Koch Trading, LP (EKT) filed with the Federal Energy Regulatory Commission a joint application pursuant to section 203 of the Federal Power Act for Commission approval of the disposition of jurisdictional facilities. EKT states that the proposed transaction entails the disposition of certain jurisdictional facilities held by EKT, including power purchase and transmission agreements, energy management agreements and related FPA jurisdictional accounts, books and records.

Comment Date: 5 p.m. eastern time on October 1, 2004.

2. Hermiston Generating Company, L.P.

[Docket No. EC04-156-000]

Take notice that on September 10, 2004, Hermiston Generating Company, L.P. (Hermiston ) submitted an application pursuant to section 203 of the Federal Power Act for authorization of a disposition of jurisdictional facilities whereby through a series of transactions Hermiston will transfer and Perennial Power Company, LLC and it affiliate Perennial HGC, Inc. will acquire up to 50 percent ownership interests in Hermiston. Hermiston states that it owns an undivided 50 percent interest in a 475 MW multi-unit, natural gas-fired combined cycle generating plant with automatic generation control and related transmission and interconnection equipment, located near Hermiston, Oregon. Hermiston requests privileged treatment of Exhibit I of the Application.

Comment Date: 5 p.m. eastern time on October 1, 2004.

3. PJM Interconnection, L.L.C.

[Docket Nos. ER04-539-005 and EL04-121-001]

Take notice that on September 9, 2004, PJM Interconnection, L.L.C. (PJM), in compliance with the Commission's order issued August 10, 2004, PJM Interconnection, L.L.C., 108 FERC ¶ 61, 187 (2004), submitted for filing amendments to the Amended and Restated Operating Agreement of PJM Interconnection, L.L.C. and the PJM Open Access Transmission Tariff to include an exception to PJM's offer-capping rules for the PJM-NICA 500 MW pathway, when such pathway is constrained from west to east. PJM requested an effective date of May 1, 2004, for the compliance amendments.

PJM states that copies of this filing have been served on all PJM members, the utility regulatory commissions in the PJM region, and all persons on the official service list compiled by the Secretary in this proceeding.

Comment Date: 5 p.m. eastern time on September 30, 2004.

4. Duke Energy Corporation

[Docket No. ER04-993-001]

Take notice that on September 8, 2004, Duke Energy Corporation, on behalf of Duke Electric Transmission, submitted a compliance filing pursuant to the Commission's letter order issued August 30, 2004 in Docket No. ER04-993-000.

Comment Date: 5 p.m. eastern time on September 29, 2004.

5. Choice Energy Services, L.P.

[Docket No. ER04-1022-001]

Take notice that on September 8, 2004, Choice Energy Services, L.P. (Choice) filed an amendment to its petition filed July 15, 2004 for acceptance of Choice's Rate Schedule FERC No. 1; the granting of certain blanket approvals, including the authority to sell electricity at market-based rates; and the waiver of certain Commission regulations.

Choice states that it intends to engage in wholesale electric power and energy purchases and sales as a marketer. Choice further states it is not in the business of generating or transmitting electric power.

Comment Date: 5 p.m. eastern time on September 29, 2004.

6. Midwest Independent Transmission System Operator, Inc.

[Docket No. ER04-1202-000]

Take notice that on September 8, 2004, the Midwest Independent Transmission System Operator, Inc. (Midwest ISO) submitted an Interconnection and Operating Agreement among Hawkeye Power Partners, LLC, Interstate Power and Light Company, a wholly-owned subsidiary of Alliant Energy Corporation, and the Midwest ISO.

Comment Date: 5 p.m. eastern time on September 29, 2004.

7. Portland General Electric Company

[Docket No. ER04-1204-000]

Take notice that on September 8, 2004, Portland General Electric Company (PGE) tendered for filing new and revised tariff sheets to its Open Access Transmission Tariff incorporate the Large Generator Interconnection Procedures and Large Generator Interconnection Agreement in accordance with FERC Order No. 2003-A. PGE requests an effective date of November 8, 2004 for the requested changes.

PGE states that copies of this filing were supplied to the Public Utility Commission of Oregon, PGE's Network Customers and the Docket No. RM02-1-001 service list.

Comment Date: 5 p.m. eastern time on September 29, 2004.

8. Deseret Generation & Transmission Co-operative, Inc.

[Docket No. ER04-1205-000]

Take notice that on September 8, 2004, Deseret Generation & Transmission Co-operative, Inc. (Deseret) tendered for filing an amendment to First Revised Service Agreement No. 4 under Deseret's FERC Electric Tariff, Original Volume 1. Deseret states that the amendment includes an Acquired Retail Load Rider Between Deseret and Garkane Energy Cooperative, Inc. dated August 31, 2004, that provides for the provision of electric energy and capacity by Deseret to Garkane for retail loads of Kanab City, Utah. Deseret requests an effective date of September 1, 2004.

Deseret states that copies of this filing have been served upon Deseret's member cooperatives.

Comment Date: 5 p.m. eastern time on September 29, 2004.

9. Oregon Electric Utility Company; Portland General Electric Company; Portland General Term Power Procurement Company

[Docket ER04-1206-000]

Take notice that on September 8, 2004, Oregon Electric Utility Company (OEUC), Portland General Electric Company (PGE) and Portland General Term Power Procurement Company (PPC) petitioned the Commission for approvals necessary to enable OEUC to restructure PGE's wholesale energy procurement activity, specifically: (1) Acceptance of PPC's Rate Schedules FERC No. 1 and FERC No. 2; (2) acceptance of PGE's Rate Schedule FERC No. 14; (3) the granting of certain blanket approvals, including the authority for PPC to sell electricity at market-based rates; and (4) the waiver of certain Commission regulations.

Comment Date: 5 p.m. eastern time on September 29, 2004.

10. Black Hills Power, Inc.

[Docket No. ER04-1208-000]

Take notice that on September 9, 2004, Black Hills Power, Inc. submitted to the Commission a Notice of Succession adopting all applicable rate schedules, service agreements, tariffs and supplements thereto previously filed with the Commission by Black Hills Power and Light Company and Black Hills Corporation.

Comment Date: 5 p.m. eastern time on September 30, 2004.

11. Southern California Edison Company

[Docket No. ER04-1209-000]

Take notice that on September 9, 2004, Southern California Edison Company (SCE) submitted proposed revisions to SCE's Transmission Owner Tariff, FERC Electric Tariff, Second Revised Volume No. 6, to implement new reliability procedure.

SCE states that copies of the filing were served upon the SCE's jurisdictional customers, the California Public Utilities Commission, the California Electricity Oversight Board, the California Independent System Operator, Pacific Gas and Electric Company, and the San Diego Gas and Electric Company.

Comment Date: 5 p.m. eastern time on September 30, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2248 Filed 9-17-04; 8:45 am]

BILLING CODE 6717-01-P